DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with provisions of the Native American Graves Protection and Repatriation Act (NAGPRA), 43 CFR 10.9, of the completion of an inventory of human remains and associated funerary objects in the possession of the Peabody Museum of Archaeology and Ethnology, Harvard University, Cambridge, MA.

This notice is published as part of the National Park Service’s administrative responsibilities under NAGPRA, 43 CFR 10.2 (c). The determinations within this notice are the sole responsibility of the museum, institution, or Federal agency that has control of these Native American human remains and associated funerary objects. The National Park Service is not responsible for the determinations within this notice.

A detailed assessment of the human remains was made by Peabody Museum of Archaeology and Ethnology professional staff in consultation with representatives of the Caddo Indian Tribe of Oklahoma.

In 1966, human remains representing two individuals were collected from the Bayou Sel site, Clark County, AR, by Frank Schambach as part of a Peabody Museum expedition.. No known individuals were identified. The 566 associated funerary objects include partial and complete ceramic vessels, ceramic sherds, a bone object, a shell object, a stone object, and 102 soil samples taken from the ceramic vessels.

Based on ceramic style and burial context, these human remains and associated funerary objects have been identified as Native American dating to the Mid-Ouachita Phase of the Late Caddoan period (C.E. 1350-1500). The archeological record of the Bayou Sel site is attributed to the Mid-Ouachita focus, a phase recognized as representing the fluorescence of Caddoan culture in the Ouachita Valley of Arkansas. Cartographic and historical information suggest that the Upper Ouachita River was occupied by the Cahinnio, a group that joined with the Kadohadacho Confederacy during the 18th century. The present-day Indian tribe culturally affiliated with the Kahohadacho Confederacy is the Caddo Indian Tribe of Oklahoma.

Based on the above-mentioned information, officials of the Peabody Museum of Archaeology and Ethnology have determined that, pursuant to 43 CFR 10.2 (d)(1), the human remains listed above represent the physical remains of two individuals of Native American ancestry. Officials of the Peabody Museum of Archaeology and Ethnology also have determined that, pursuant to 43 CFR 10.2 (d)(2), the 566 objects listed above are reasonably believed to have been placed with or near individual human remains at the time of death or later as part of the death rite or ceremony. Lastly, officials of the Peabody Museum of Archaeology and Ethnology have determined that, pursuant to 43 CFR 10.2 (e), there is a relationship of shared group identity that can be reasonably traced between these Native American human remains and associated funerary objects and the Caddo Indian Tribe of Oklahoma.

This notice has been sent to officials of the Caddo Indian Tribe of Oklahoma. Representatives of any other Indian tribe that believes itself to be culturally affiliated with these human remains and associated funerary objects should contact Patricia Capone, Repatriation Coordinator, Peabody Museum of Archaeology and Ethnology, 11 Divinity Avenue, Cambridge, MA 02138, telephone (617) 496-3702, before November 5, 2001. Repatriation of the human remains and associated funerary objects to the Caddo Indian Tribe of Oklahoma may begin after that date if no additional claimants come forward.

Dated: July 12, 2001.
John Robbins,
Assistant Director, Cultural Resources Stewardship and Partnerships.

[FR Doc. 01-24959 Filed 10-4-01; 8:45 am]

BILLING CODE 4310-70-S